SMALL BUSINESS ADMINISTRATION

[Declaration of Disaster #3635]

State of Florida (Amendment #1)

In accordance with a notice received from the Department of Homeland Security—Federal Emergency Management Agency—effective September 30, 2004, the above numbered declaration is hereby amended to include Alachua, Baker, Bradford, Charlotte, Citrus, Clay, Columbia, DeSoto, Dixie, Duval, Flagler, Gilchrist, Glades, Hamilton, Hendry, Jefferson, Lafayette, Levy, Madison, Manatee, Nassau, Putnam, Sarasota, St. Johns, Suwannee, Taylor, and Union as disaster areas due to damages caused by Hurricane Jeanne occurring on September 24, 2004 and continuing.

In addition, applications for economic injury loans from small businesses located in the contiguous counties of Collier, Lee, Leon, and Wakulla in the State of Florida; and Brooks, Camden, Charleton, Clinch, Echols, Lowndes, Thomas, and Ware Counties in the State of Georgia may be filed until the specified date at the previously designated location. All other counties contiguous to the above named primary counties have previously been declared. The economic injury disaster number assigned to Georgia is 9AE300.

All other information remains the same, i.e., the deadline for filing applications for physical damage is November 26, 2004 and for economic injury the deadline is June 27, 2005.

(Catalog of Federal Domestic Assistance Program Nos. 59002 and 59008)

Dated: October 6, 2004.
Herbert L. Mitchell,
Associate Administrator for Disaster Assistance.

[FR Doc. 04-22928 Filed 10-12-04; 8:45 am]

BILLING CODE 8025-01-P